DEPARTMENT OF JUSTICE

Office of Justice Programs

Agency Information Collection Activities: Proposed Collection; Comments Requested

ACTION: 60-Day Notice of Information Collection under Review: Accounting System and Financial Capability Questionnaire.

The Department of Justice (DOJ), Office of Justice Programs (OJP), Office of the Comptroller has submitted the following information collection request to the Office of Management and Budget (OMB) for review and approval in accordance with the Paperwork Reduction Act of 1995. The proposed information collection is published to obtain comments from the public and affected agencies. Comments are encouraged and will be accepted for “sixty days” until April 7, 2006. The process is conducted in accordance with 5 CFR 1320.10.

If you have comments, especially on the estimated public burden or associated response time, suggestions, or need a copy of the proposed information collection instrument with instructions or additional information, please contact Cynthia J. Schwimer, Comptroller, Office of Justice Programs, U.S. Department of Justice, 810 7th Street, NW., Washington, DC 20531.

Written comments and suggestions from the public and affected agencies concerning the proposed collection of information are encouraged. Your comments should address one or more of the following four points:

—Evaluate whether the proposed collection of information is necessary for the proper performance of the functions of the agency, including whether the information will have practical utility;

—Evaluation the accuracy of the agencies estimate of the burden of the proposed collection of information, including the validity of the methodology and assumptions used:

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of information collection: Extension of a currently approved collection.

(2) Title of the form/collection: Accounting System and Financial Capability Questionnaire.

(3) Agency form number, if any, and the applicable component of the Department of Justice sponsoring the collection: The agency form number is 7120/1 Office of Justice Programs, United States Department of Justice.

(4) Affected public who will be asked or required to respond, as well as a brief abstract: Primary: Not-for-profit institutions, for-profit entities. Other: none. The information is required for assessing the financial risk of a potential recipient in administrating federal funds in accordance with OMB Circular A-110 and 28 CFR part 70.

(5) An estimate of the total number of respondents and the amount of time estimated for an average respondent to respond: It is estimated that 100 respondents will complete the form within approximately 4 hours.

(6) An estimate of the total public burden (in hours) associated with the collection: There are an estimated 400 total hour burden hours associated with this collection.

If additional information is required contact: Mrs. Brenda E. Dyer, Department Clearance Officer, United States Department of Justice, Justice Management Division, Policy and Planning Staff, Patrick Henry Building, Suite 1600, 601 D Street, NW., Washington, DC 20530.

Dated: January 31, 2006.
Brenda E. Dyer,
Department Clearance Officer, Department of Justice.

[FR Doc. E6-1544 Filed 2-3-06; 8:45 am]

BILLING CODE 4410-18-P